DEPARTMENT OF TRANSPORTATION

Federal Railroad Administration

[Docket No. FRA-2025-0062]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before February 2, 2026.

ADDRESSES: Written comments and recommendations for the proposed ICR should be submitted on www.regulations.gov to Docket No. FRA-2025-0062. All comments received will be posted without change to the docket, including any personal information provided. Please refer to the assigned OMB control number (2130-0525) in any correspondence submitted. FRA will summarize comments received in response to this notice in a subsequent notice, made available to the public, and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Certification of Glazing Materials.

OMB Control Number: 2130-0525.

Abstract: Title 49 CFR part 223 contains requirements for certification and permanent marking of glazing materials by the manufacturer. The manufacturer must make test verification data available to railroads and to FRA upon request.

In this 60-day notice, after a thorough review, FRA is making multiple adjustments to its estimates that decrease the currently approved burden hours from 262 hours to 105 hours and decrease responses from 25,426 to 210. This burden decrease is the result of changes summarized below.

Section 223.3(c) applies to certain equipment used for excursion, educational, recreational, or private transportation purposes. It provides that a tool or other instrument may be used to remove or break an emergency window if the tool or other instrument is clearly marked and legible and understandable instructions are provided for its use. FRA is adjusting the burden estimate to reflect more accurately the estimated number of windows that will require these marked tools and instructions. This reduces the estimated burden by 100 hours.

In November 2022, FRA published a final rule titled Safety Glazing Standards; Codifying Existing Waivers and Adding Test Flexibility.¹ This rule amended safety glazing requirements for exterior windows on railroad equipment to codify long-standing waivers. Specifically, this rule excluded from compliance with part 223 all locomotives, cabooses, and passenger cars built or rebuilt prior to July 1, 1980, that are operated at speeds not exceeding 30 miles per hour, and which are used only where the risk of propelled or fouling objects striking the equipment is low. Because this rule means that railroads no longer need to submit waiver requests under §§ 223.11, 223.13 and 223.15, FRA has removed the previously reported waiver requests for these sections, reducing the total burden by 5 hours.

¹ 87 FR 68913 (Nov. 17, 2022).

Lastly, under appendix A to part 223, which requires manufacturers to identify and mark each unit of glazing material produced, FRA has determined that this requirement is part of the manufacturing process. Because marking glazing during the manufacturing process is a usual and customary practice in this industry, the requirement to apply markings is properly excluded from coverage under the PRA, reducing the burden by 52 hours.

Type of Request: Extension without change (with changes in estimates) of a currently approved collection.

Affected Public: Businesses (railroads and manufacturers of glazing materials).

Form(s): N/A.

Respondent Universe: 25 railroads and 3 manufacturers.

Frequency of Submission: On occasion.

Reporting Burden:

² The dollar equivalent cost is derived from the 2023 Surface Transportation Board Full Year Wage A&B data series using employee group 200 (Professional Administrative Staff) hourly wage rate of $50.93, and employee group 400 (Maintenance of Equipment and Stores) hourly wage rate of $39.77. The total burden wage rate (straight time plus 75%) used in the table is $89.13 ($50.93 × 1.75 = $89.13) and $69.60 ($39.77 × 1.75 = $69.90).

CFR section | Respondent universe | Total annual responses | Average time per response (minutes) | Total annual burden hours | Wage ² rates | Total cost equivalent
|  | (A) | (B) | (C) = A * B | (D) | (E) = C * D
223.3 Application
—(c) Marked tools for locomotives, passenger cars, and cabooses built after 1945 used only for excursion, educational, recreational, or private transportation purposes in an intercity passenger or commuter train (generally, small hammers with instructions on use) | 25 railroads | 200 marked tools | 30 | 100 | $69.60 | $6,960
Appendix A to Part 223—Certification of Glazing Materials
—(b)(16) Manufacturers to certify in writing that glazing material meets the requirements of this section | 3 manufacturers | 10 certifications | 30 | 5 | 89.13 | 445.65
—(c) Identification and marking of each unit of glazing material | Identification and marking of each unit of material is done as part of the manufacturing process and is usual and customary practice. Therefore, there is no additional burden associated with this requirement.
Total | 25 railroads 3 manufacturers | 210 responses |  | 105 |  | 7,405.65

Total Estimated Annual Responses: 210.

Total Estimated Annual Burden: 105 hours.

Total Estimated Annual Burden Hour Dollar Cost Equivalent: $7,405.65.

FRA informs all interested parties that it may not conduct or sponsor, and a respondent is not required to respond to, a collection of information that does not display a currently valid OMB control number.

(Authority: 44 U.S.C. 3501-3520)

Christopher S. Van Nostrand,
Deputy Chief Counsel.

[FR Doc. 2025-21839 Filed 12-2-25; 8:45 am]

BILLING CODE 4910-06-P